DEPARTMENT OF ENERGY

Federal Energy Regulatory Commission

[Docket No. RP04-304-000]

Northwest Pipeline Corporation; Notice of Proposed Changes in FERC Gas Tariff

May 26, 2004.

Take notice that on May 21, 2004, Northwest Pipeline Corporation (Northwest) tendered as part of its FERC Gas Tariff, Third Revised Volume No. 1, Third Revised Sheet No. 373, to be effective June 21, 2004, and tendered for filing and acceptance a Rate Schedule TF-1 non-conforming service agreement.

Northwest states that the purpose of this filing is to submit a Rate Schedule TF-1 service agreement containing provisions that do not conform to the Rate Schedule TF-1 form of service agreement contained in Northwest's tariff, and to add this agreement to the list of non-conforming service agreements in Northwest's tariff.

Northwest states that a copy of this filing has been served upon Northwest's customers and interested State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1241 Filed 6-3-04; 8:45 am]

BILLING CODE 6717-01-P